DEPARTMENT OF THE INTERIOR

Bureau of Land Management

[BLM_AZ_FRN_MO4500175809]

Notice of Filing of Plats of Survey; Arizona

AGENCY: Bureau of Land Management, Interior.

ACTION: Notice of official filing.

SUMMARY: The plats of survey of the following described land were officially filed in the Bureau of Land Management (BLM), Arizona State Office, Phoenix, Arizona on the dates indicated. The surveys announced in this notice are necessary for the management of lands administered by the agency indicated.

ADDRESSES: These plats will be available for inspection in the Arizona State Office, Bureau of Land Management, One North Central Avenue, Suite 800, Phoenix, Arizona 85004-4427. Protests of any of these surveys should be sent to the Arizona State Director at the above address.

FOR FURTHER INFORMATION CONTACT: Geoffrey A. Graham, Chief Cadastral Surveyor of Arizona; (602) 417-9558; ggraham@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

The Gila and Salt River Meridian, Arizona

The plat, in one sheet, representing the survey of a portion of the Third Guide Meridian East (west boundary), the subdivisional lines and the subdivision of certain sections, Township 23 North, Range 13 East, accepted September 19, 2023, and officially filed September 21, 2023, for Group 1224, Arizona.

This plat was prepared at the request of the Bureau of Indian Affairs.

The plat, in one sheet, representing the dependent resurvey of a portion of the Fourth Guide Meridian East (east boundary), the south, west and north boundaries and the subdivisional lines, and the subdivision of certain sections, Township 23 North, Range 16 East, accepted September 19, 2023, and officially filed September 21, 2023, for Group 1222, Arizona.

This plat was prepared at the request of the Bureau of Indian Affairs.

The plat, in two sheets, representing the dependent resurvey of a portion of the Seventh Auxiliary Guide Meridian East (west boundary), the south, east and north boundaries and the subdivisional lines, and the subdivision of certain sections, Township 23 North, Range 29 East, accepted September 19, 2023, and officially filed September 21, 2023, for Group 1221, Arizona.

This plat was prepared at the request of the Bureau of Indian Affairs.

The plat, in one sheet, representing the dependent resurvey of a portion of the subdivisional lines and a metes-and-bounds survey in fractional section 9, fractional Township 11 North, Range 18 West, accepted August 29, 2023, and officially filed September 1, 2023, for Group 1228, Arizona.

This plat was prepared at the request of the Bureau of Land Management.

A person or party who wishes to protest any of these surveys must file a written notice of protest within 30 calendar days from the date of this publication with the Arizona State Director, Bureau of Land Management, stating that they wish to protest.

A statement of reasons for a protest may be filed with the notice of protest to the State Director, or the statement of reasons must be filed with the State Director within 30 days after the protest is filed. Before including your address, or other personal information in your protest, please be aware that your entire protest, including your personal identifying information, may be made publicly available at any time. While you can ask us in your comment to withhold your personal identifying information from public review, we cannot guarantee that we will be able to do so.

Authority: 43 U.S.C. chap. 3.

Geoffrey A. Graham,
Chief Cadastral Surveyor of Arizona.

[FR Doc. 2023-23032 Filed 10-18-23; 8:45 am]

BILLING CODE 4331-12-P